DEPARTMENT OF COMMERCE

Census Bureau

Master Address File (MAF) and Topologically Integrated Geographic Encoding and Referencing (TIGER) Update Activities

ACTION: Proposed collection; comment request.

SUMMARY: The Department of Commerce, as part of its continuing effort to reduce paperwork and respondent burden, invites the general public and other Federal agencies to take this opportunity to comment on proposed and/or continuing information collections, as required by the Paperwork Reduction Act of 1995, Public Law 104-13 (44 U.S.C. 3506(c)(2)(A)).

DATES: Written comments must be submitted on or before February 5, 2001.

ADDRESSES: Direct all written comments to Madeleine Clayton, Departmental Forms Clearance Officer, Department of Commerce, Room 6086, 14th and Constitution Avenue, NW., Washington, DC 20230 (or via the Internet at mclayton@doc.gov).

FOR FURTHER INFORMATION CONTACT: Requests for additional information or copies of the information collection instrument(s) and instructions should be directed to Bob Tomassoni, Bureau of the Census, WP-1, Room 204, Washington, DC 20233. Phone Number 301-457-8253.

SUPPLEMENTARY INFORMATION:

I. Abstract

Note: The present clearance expires May 31, 2001. This request covers field activities to be conducted from June 1, 2001 through May 31, 2004.

The Census Bureau presently operates a generic clearance covering activities involving respondent burden associated with updating our Master Address File (MAF) and Topologically Integrated Geographic Encoding and Referencing (TIGER) system. (The MAF is the Census Bureau's address database and TIGER is the geographic database.) We now propose to extend that generic clearance to cover update activities we will undertake during the next three fiscal years.

Under the terms of the generic clearance, we plan to submit a request for OMB approval that will describe all planned activities for the entire period; we will not submit a clearance package for each updating activity. We will send a letter to OMB at least five days before the planned start of each activity that gives more exact details, examples of forms, and final estimates of respondent burden. We also will file a year-end summary with OMB after the close of each fiscal year giving results of each activity conducted. This generic clearance enables OMB to review our overall strategy for MAF and TIGER updating in advance, instead of reviewing each activity in isolation shortly before the planned start. The Census Bureau used the MAF for mailing and delivering questionnaires to households during Census 2000. The MAF is also used as a sampling frame for our demographic current surveys. In the past, the Census Bureau built a new address list for each decennial census. The MAF we built for Census 2000 is meant to be kept current, thereby, eliminating the need to build a completely new address list for future censuses and surveys. The TIGER is a geographic system that maps the entire country in Census Blocks with applicable address range or living quarter location information. Linking MAF and TIGER allows us to assign each address to the appropriate Census Block, produce maps as needed and publish results at the appropriate level of geographic detail. The following are descriptions of each activity we plan to conduct under the clearance for the next three fiscal years.

1. Community Address Updating System (CAUS)

The CAUS program will consist of both tests and actual production work over the next few years. The 2000 CAUS Field Test was conducted in twenty-four counties throughout the country. The test began in Fiscal Year (FY) 2000 and will continue into FY 2001. The tests objectives are to obtain address information about new housing units and add those to the MAF, and to correct and update the existing addresses in the MAF. In FY 2000, we produced data sets and assignments which we loaded onto laptop computers. The data sets are used in the Automated Listing and Mapping Instrument (ALMI) to allow the Field Representatives (FRs) to collect updates which can then be applied to the Master Address File (MAF) and TIGER.

In addition to the above, a smaller “Splash” test will be conducted sometime during the first half of 2001. This field test will be similar to the 2000 field test, but on a smaller scale. The estimated number of households involved will be 2,500. The estimated time per response is 2 minutes. The estimated respondent burden hours is 85 hours.

In FY 2002, there will be a CAUS Field Test Dress Rehearsal. The operation will be similar to the 2000 CAUS Field Test, but there will be more of a production component to the CAUS Dress Rehearsal. The estimated number of households involved will be 125,000. The estimated time per response is 2 minutes. The estimated respondent burden hours is 4,165 hours.

Planned for FY 2003 is the actual CAUS operation. The operation will take place nationwide. The estimated number of households involved will be 200,000. The estimated time per response is 2 minutes. The estimated respondent burden hours is 6,660 hours.

The CAUS will help the Census Bureau maintain a current MAF and TIGER throughout the decade and into the next decennial census.

2. Evaluation of the Quality of Geocodes

The Census Bureau is conducting the Accuracy and Coverage Evaluation (A.C.E.) to measure the overall and differential coverage of the U.S. population and housing in Census 2000. An independent listing (IL) of all the housing units in the A.C.E. sample clusters was conducted before census day. This IL was then matched to the Decennial Master Address File (DMAF) to measure housing unit coverage. In some cases, the results found in A.C.E. will reflect geocoding error in the census. The objective of the Evaluation of the Quality of the Geocodes Associated with Census Addresses is to measure the quality of the geocodes in Census 2000, beyond the measure provided by the A.C.E.

The final housing unit matching results from the A.C.E. sample are used as the starting point for this evaluation. For cases that didn't match during the final housing unit matching, the search will be extended from the block cluster level on the DMAF to a wider search area on the MAF. Potential matches from this search indicate possible geocoding error or cases that were excluded from Census 2000. In some cases, field follow-up will be done to confirm the matches.

There are approximately 310,000 housing units in the A.C.E. Approximately 10,600 of those 310,000 are expected to not match to the DMAF. These 10,600 cases will then be computer matched to the full MAF looking at the ring of 1990 census tracts surrounding the 1990 tract to which the address is assigned in the MAF.

Roughly 4,000 of the 10,600 housing units are expected to computer match to the MAF at the surrounding tract level and 6,600 are not. These 6,600 cases will be sent to the National Processing Center for clerical matching. About 2,000 of the 6,600 are estimated to clerically match to the MAF at the surrounding tract level. That gives an estimated 6,000 cases that will match to the MAF at the surrounding tract level. These 6,000 cases will be sent to the field for follow-up. For cases that match to units on the MAF within the ring of tracts, Field Division will be asked to confirm the existence of the unit and the MAF block. All of the remaining A.C.E. nonmatches will be assumed to be census misses.

It is anticipated that the field work will involve contacting respondents about residential status only if it is not already obvious. In addition, field staff may need to contact residents regarding specific information about the location of their unit to help determine what block they're in. The most burdensome case scenario would be all 6,000 units being contacted. The estimated time per response is 1 minute. The estimated total respondent burden is 100 hours. All of the field work is expected to take place in FY 2002.

3. Evaluation of the Block Splitting Operation for Tabulation Purposes

Collection blocks are blocks defined by visible features. Sometimes these blocks cross governmental or other required data tabulation boundaries. Collection blocks are used to conduct field operations. At the end of Census 2000, blocks need to be defined by governmental and other boundaries for data tabulation purposes. To achieve this, collection blocks need to be split in certain situations. The resulting blocks are called tabulation blocks.

The objective of this evaluation is to measure the quality of the processes that are used to provide the address range and map spot information to split blocks for tabulation purposes.

Approximately 600,000 blocks will be split for tabulation purposes. For this evaluation, a sample of collection blocks that have at least one block split caused by tabulation geography will be field visited. The purpose of the field visit is to determine if the splitting of the block was accurate relative to the actual feature or governmental unit boundary that caused the block split in the first place. The types of tabulation geography that are inscope for this evaluation are visible boundaries, non-visible governmental boundaries, and American Indian Reservation boundaries. The sample of blocks will be split blocks that have at least one housing unit or group quarters. Areas that were enumerated in the Remote Alaska operation will not be in sample. Puerto Rico will be in sample however, the sample size may not be large enough to produce estimates specifically for Puerto Rico.

All sampled split collection blocks will be sent to the field with maps and listings of addresses in the 2000 Census. Field will determine actual tabulation geography for every housing unit in the collection block.

A sample size has not been determined yet. The most burdensome case scenario would be approximately 10,000 units being contacted. This is based on the assumptions that:

• 2,000 blocks will be selected,

• Each block has 30 housing units,

• Most of the field work will be done by observation, and

• 5 housing units per block will need to be contacted to confirm their location relative to the governmental boundary.

The estimated time per response is 1 minute. The estimated total respondent burden is 167 hours. All of the field work will occur in FY 2001.

In addition to the above evaluations, there may be other evaluations that may be conducted in the next three years to help the Census Bureau evaluate the quality of work done during Census 2000. Any other evaluations would be similar to those above and would be within the scope of the clearance as a MAF/TIGER updating activity.

II. Method of Collection

The primary method of data collection for all operations will be personal interview by Census Listers or Enumerators using the operation's listing form. In some cases, the interview could be by telephone callback if no one was home on the initial visit. See part I for details of each operation.

III. Data

OMB Number: 0607-0809.

Form Number: The form numbers for some activities have not yet been assigned. See the descriptions of the activities in part I for form numbers where applicable.

Type of Review: Regular submission.

Affected Public: Individuals or households.

Estimated Number of Respondents: Varies by operation, see chart below.

Estimated Time Per Response: Varies by operation, see chart below.

Estimated Total Annual Burden Hours: FY01 377; FY02 10,500; FY03 16,700.

Estimated Total Annual Cost: The only cost to respondents is that of their time to respond.

Respondent's Obligation: Mandatory.

Legal Authority: Title 13, United States Code, Sections 141 and 193.

Activity | FY 2001 respondents | FY 2002 respondents | FY 2003 respondents | Average hours per response | Responses per respondent | FY 2001 burden hours | FY 2002 burden hours | FY 2003 burden hours
CAUS (Splash Test) | 2,500 | 0 | 0 | .033 | 1 | 85 | 0 | 0
CAUS (Dress Rehearsal) | 0 | 125,000 | 0 | .033 | 1 | 0 | 4,165 | 0
CAUS Operation | 0 | 0 | 200,000 | .033 | 1 | 0 | 0 | 6,660
Evaluations (Quality of Geocodes) | 0 | 6,000 | 0 | .016 | 1 | 0 | 100 | 0
Evaluations (Block Splitting) | 10,000 | 0 | 0 | .016 | 1 | 167 | 0 | 0
Totals | 12,500 | 131,000 | 200,000 |  |  | 252 | 4,265 | 6,660

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: November 30, 2000.
Madeleine Clayton,
Departmental Forms Clearance Officer, Office of the Chief Information Officer.

[FR Doc. 00-30961 Filed 12-5-00; 8:45 am]

BILLING CODE 3510-07-P